DEPARTMENT OF ENERGY

Federal Energy Regulatory Commission

[Docket No. RP00-388-000]

Koch Gateway Pipeline Company; Notice of Proposed Changes in FERC Gas Tariff

July 19, 2000.

Take notice that on July 14, 2000, Koch Gateway Pipeline Company (Koch) tendered for filing as part of its FERC Gas Tariff, Fifth Revised Volume No. 1, the following tariff sheets, to become effective August 14, 2000:

Thirteenth Revised Sheet No. 23

Fifth Revised Sheet No. 103

Second Revised Sheet No. 104

First Revised Sheet No.105

Third Revised Sheet No. 809

First Revised Sheet No. 810

Original Sheet No. 811

Third Revised Sheet No. 1407

Fifth Revised Sheet No. 3700

Koch proposes to establish a new summer-only firm transportation option that will meet the needs of the developing electric power generation market and will allow customers to subscribe for summer-only firm service either for a single summer or for multiple summer seasons.

Koch states that copies of this filing have been served upon Koch's customers, state commissioners and other interested parties.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18613 Filed 7-21-00; 8:45 am]

BILLING CODE 6717-01-M